DEPARTMENT OF TRANSPORTATION

Coast Guard

33 CFR Part 117

[CGD07-02-119]

Drawbridge Operation Regulations; Hobe Sound bridge (SR 708), Atlantic Intracoastal Waterway, mile 996.0, Hobe Sound, Martin County, FL

AGENCY: Coast Guard, DOT.

ACTION: Notice of temporary deviation from regulations.

SUMMARY: The Commander, Seventh Coast Guard District has approved a temporary deviation from the regulations governing the operation of the Hobe Sound (SR 708) bridge, at Hobe Sound, across the Atlantic Intracoastal Waterway, mile 996.0 in Hobe Sound, Florida. This deviation will allow the bridge to only open a single leaf of the bridge from 8 a.m. until 5 p.m. on October 9, 2002 and October 10, 2002. Double-leaf openings will be available with a two-hour advance notice to the bridge tender. This temporary deviation is required to allow the bridge owner to safely complete emergency repairs.

DATES: This deviation is effective from 8 a.m. on October 9, 2002 until 5 p.m. on October 10, 2002.

ADDRESSES: Material received from the public, as well as documents indicated in this preamble as being available in the docket, are part of docket [CGD07-02-119] and are available for inspection or copying at Commander (obr), Seventh Coast Guard District, 909 S.E. 1st Avenue, Room 432, Miami, FL 33131 between 8 a.m. and 4 p.m., Monday through Friday, except Federal holidays.

FOR FURTHER INFORMATION CONTACT: Mr. Barry Dragon, Project Manager, Seventh Coast Guard District, Bridge Branch at (305) 415-6743.

SUPPLEMENTARY INFORMATION: The existing regulations for the Hobe Sound (SR 708) bridge in 33 CFR 117.5, require the bridge to open on signal. Martin County notified the Coast Guard on September 8, 2002, that they needed to operate a single-leaf of the drawbridge to safely effect emergency repairs. A double-leaf opening will be available with two-hours advance notice provided to the bridge tender.

The Commander, Seventh Coast Guard District has granted a temporary deviation from the operating requirements listed in 33 CFR 117.5 to complete repairs to the bridge. Under this deviation, the Hobe Sound bridge need only open a single leaf from 8 a.m. until 5 p.m. on October 9, 2002 and October 10, 2002. A double-leaf opening will be available with two-hours advance notice provided to the bridge tender.

Dated: September 25, 2002.
Greg Shapley,
Chief, Bridge Administration, Seventh Coast Guard District.

[FR Doc. 02-25087 Filed 10-2-02; 8:45 am]

BILLING CODE 4910-15-P